FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 018630N.

Name: American International Shipping Company.

Address: 7 Emily Road, Manalapan, NJ 07726.

Date Revoked: November 7, 2009.

Reason: Failed to maintain a valid bond.

License Number: 014160N.

Name: Cargo Logistics Inc.

Address: 186 Sherman Ave., P.O. Box 186, Glenridge, NJ 07028.

Date Revoked: October 21, 2009.

Reason: Failed to maintain a valid bond.

License Number: 004411N.

Name: Debbie D. Sukhai-Sheffield DBA S & S Enterprises.

Address: 4463 Niobe Circle, Rancho Cordova, CA 95742.

Date Revoked: October 30, 2009.

Reason: Failed to maintain a valid bond.

License Number: 020146N.

Name: Global Carrier Alliance Corp.

Address: 1880 Century Park East, Ste. 900, Los Angeles, CA 90067.

Date Revoked: October 28, 2009.

Reason: Failed to maintain a valid bond.

License Number: 018084F.

Name: Go-Trans (North America) Inc.

Address: 147-32 Farmers Blvd., 2nd Floor, Jamaica, NY 11434.

Date Revoked: August 22, 2009.

Reason: Failed to maintain a valid bond.

License Number: 019788N.

Name: Miriam Family Cargo, Inc.

Address: 18 NW 12th Ave., Miami, FL 33128.

Date Revoked: October 22, 2009.

Reason: Failed to maintain a valid bond.

Sandra L. Kusumoto,
Director, Bureau of Certification and Licensing.

[FR Doc. E9-28265 Filed 11-24-09; 8:45 am]

BILLING CODE 6730-01-P